POSTAL REGULATORY COMMISSION

39 CFR Part 3040

[Docket No. RM2020-8]

RIN 3211-AA28

Update to Product Lists

AGENCY: Postal Regulatory Commission.

ACTION: Direct final rule.

SUMMARY: The Commission is announcing an update to the Market Dominant and Competitive product lists. This action reflects a publication policy adopted by Commission rules. The referenced policy assumes periodic updates. The updates are identified in the body of this document. The Market Dominant and Competitive product lists, which are re-published in their entirety, include these updates.

DATES: This rule is effective November 2, 2023, without further action, unless adverse comment is received by October 18, 2023. If adverse comment is received, the Commission will publish a timely withdrawal of the rule in the Federal Register.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6800.

SUPPLEMENTARY INFORMATION:

I. Introduction

II. Commission Process

III. Authorization

IV. Modifications

V. Ordering Paragraphs

I. Introduction

Pursuant to 39 U.S.C. 3642(d)(2) and 39 CFR 3040.103, the Commission provides a Notice of Update to Product Lists by listing all necessary modifications to both the Market Dominant and Competitive product lists between January 1, 2023, and June 30, 2023.

II. Commission Process

Pursuant to 39 CFR part 3040, the Commission maintains a Mail Classification Schedule (MCS) that includes rates, fees, and product descriptions for each Market Dominant and Competitive product, as well as product lists that categorize Postal Service products as either Market Dominant or Competitive. See generally 39 CFR part 3040. The product lists are published in the Code of Federal Regulations as 39 CFR part 3040, appendix A to subpart A, Market Dominant Product List, and appendix B to subpart A, Competitive Product List, pursuant to 39 U.S.C. 3642(d)(2). See 39 U.S.C. 3642(d)(2). The MCS is updated by the Commission on its website on a quarterly basis.¹ The product lists are updated biannually and are also published in the Federal Register pursuant to 39 CFR 3040.103.²

¹ 39 CFR 3040.105(b). See https://www.prc.gov/mail-classification-schedule in the Current MCS section.

² 39 CFR 3040.103. See https://prc.arkcase.com/portal/docket-search/advanced/docket-details/5192.

III. Authorization

Pursuant to 39 CFR 3040.103(d)(1), this Notice of Update to Product Lists identifies any modifications made to the Market Dominant or Competitive product list, including product additions, removals, and transfers.³ Pursuant to 39 CFR 3040.103(d)(2), the modifications identified in this document result from the Commission's most recent MCS update posted on the Commission's website on July 9, 2023, and supersede all previous product lists.⁴

³ 39 CFR 3040.103(d)(1). More detailed information (e.g., Docket Nos., Order Nos., effective dates, and extensions) for each Market Dominant and Competitive product can be found in the MCS, including the “Revision History” section, available at https://www.prc.gov/mail-classification-schedule.

⁴ Previous versions of the MCS and its product lists can be found on the Commission's website, available at https://www.prc.gov/mail-classification-schedule in the MCS Archives section.

IV. Modifications

The following list of products is being added to appendix B to subpart A of part 3040 (Competitive Product List):

1. First-Class Package Service & Parcel Select Contract 1

2. First-Class Package Service & Parcel Select Contract 2

3. International Priority Airmail, Commercial ePacket, Priority Mail Express International, Priority Mail International & First-Class Package International Service Contract 15

4. Parcel Return Service Contract 19

5. Parcel Select Contract 56

6. Parcel Select Contract 57

7. Parcel Select Contract 58

8. Parcel Select Contract 59

9. Priority Mail Contract 774

10. Priority Mail Contract 775

11. Priority Mail Contract 776

12. Priority Mail Contract 777

13. Priority Mail Contract 778

14. Priority Mail Contract 779

15. Priority Mail Contract 780

16. Priority Mail & First-Class Package Service Contract 230

17. Priority Mail & Parcel Select Contract 6

18. Priority Mail & Parcel Select Contract 7

19. Priority Mail & Parcel Select Contract 8

20. Priority Mail & Parcel Select Contract 9

21. Priority Mail & USPS Ground Advantage Contract 1

22. Priority Mail & USPS Ground Advantage Contract 2

23. Priority Mail & USPS Ground Advantage Contract 3

24. Priority Mail, First-Class Package Service & Parcel Select Contract 5

25. Priority Mail, First-Class Package Service & Parcel Select Contract 6

26. Priority Mail, First-Class Package Service & Parcel Select Contract 7

27. Priority Mail, First-Class Package Service & Parcel Select Contract 8

28. Priority Mail, First-Class Package Service & Parcel Select Contract 9

29. Priority Mail, First-Class Package Service & Parcel Select Contract 12

30. Priority Mail, First-Class Package Service & Parcel Select Contract 13

31. Priority Mail, First-Class Package Service & Parcel Select Contract 15

32. Priority Mail, First-Class Package Service & Parcel Select Contract 16

33. Priority Mail, First-Class Package Service & Parcel Select Contract 17

34. Priority Mail, First-Class Package Service & Parcel Select Contract 18

35. Priority Mail, First-Class Package Service & Parcel Select Contract 19

36. Priority Mail, First-Class Package Service & Parcel Select Contract 20

37. Priority Mail, First-Class Package Service & Parcel Select Contract 22

38. Priority Mail, First-Class Package Service & Parcel Select Contract 26

39. Priority Mail, First-Class Package Service & Parcel Select Contract 28

40. Priority Mail, First-Class Package Service & Parcel Select Contract 29

41. Priority Mail, Parcel Select & Parcel Return Service Contract 1

42. Priority Mail Express & Priority Mail Contract 135

43. Priority Mail Express & Priority Mail Contract 136

44. Priority Mail Express & Priority Mail Contract 137

45. Priority Mail Express International, Priority Mail International & First-Class Package International Service Contract 13

46. Priority Mail Express International, Priority Mail International & First-Class Package International Service Contract 14

47. Priority Mail Express International, Priority Mail International & First-Class Package International Service Contract 15

48. Priority Mail Express International, Priority Mail International & First-Class Package International Service Contract 16

49. Priority Mail Express International, Priority Mail International & First-Class Package International Service Contract 17

50. Priority Mail Express International, Priority Mail International & First-Class Package International Service Contract 18

51. Priority Mail Express International, Priority Mail International & First-Class Package International Service Contract 19

52. Priority Mail Express International, Priority Mail International & First-Class Package International Service Contract 20

53. Priority Mail Express International, Priority Mail International, First-Class Package International Service & Commercial ePacket Contract 13

54. Priority Mail Express, Priority Mail & First-Class Package Service Contract 80

55. Priority Mail Express, Priority Mail, First-Class Package Service & Parcel Select Contract 105

56. Priority Mail Express, Priority Mail, First-Class Package Service & Parcel Select Contract 106

57. Priority Mail Express, Priority Mail, First-Class Package Service & Parcel Select Contract 107

58. Priority Mail Express, Priority Mail, First-Class Package Service & Parcel Select Contract 108

59. Priority Mail Express, Priority Mail, First-Class Package Service & Parcel Select Contract 109

60. Priority Mail Express, Priority Mail, First-Class Package Service & Parcel Select Contract 110

61. Priority Mail Express, Priority Mail, First-Class Package Service & Parcel Select Contract 111

62. Priority Mail Express, Priority Mail, First-Class Package Service & Parcel Select Contract 112

63. Priority Mail Express, Priority Mail, First-Class Package Service & Parcel Select Contract 113

64. Priority Mail Express, Priority Mail, First-Class Package Service & Parcel Select Contract 114

65. Priority Mail Express, Priority Mail, First-Class Package Service & Parcel Select Contract 115

66. Priority Mail Express, Priority Mail, First-Class Package Service & Parcel Select Contract 116

67. Priority Mail Express, Priority Mail, First-Class Package Service & Parcel Select Contract 117

68. Priority Mail Express, Priority Mail, First-Class Package Service & Parcel Select Contract 118

69. Priority Mail Express, Priority Mail, First-Class Package Service & Parcel Select Contract 119

70. Priority Mail Express, Priority Mail, First-Class Package Service & Parcel Select Contract 120

71. Priority Mail Express, Priority Mail, First-Class Package Service & Parcel Select Contract 121

The following list of products is being removed from appendix B to subpart A of part 3040 (Competitive Product List):

1. First-Class Package Service Contract 106

2. First-Class Package Service Contract 108

3. First-Class Package Service Contract 115

4. First-Class Package Service Contract 119

5. International Priority Airmail, Commercial ePacket, Priority Mail Express International, Priority Mail International & First-Class Package International Service with Reseller Contract 1

6. International Priority Airmail, International Surface Air Lift, Commercial ePacket, Priority Mail Express International, Priority Mail International & First-Class Package International Service Contract 2

7. International Priority Airmail, International Surface Air Lift, Commercial ePacket, Priority Mail Express International, Priority Mail International & First-Class Package International Service with Reseller Contract 1

8. International Priority Airmail, International Surface Air Lift, Commercial ePacket, Priority Mail Express International, Priority Mail International & First-Class Package International Service with Reseller Contract 2

9. Parcel Select Contract 35

10. Parcel Select Contract 37

11. Parcel Select Contract 38

12. Parcel Select Contract 39

13. Parcel Select Contract 40

14. Parcel Select Contract 41

15. Parcel Select Contract 42

16. Parcel Select Contract 43

17. Parcel Select Contract 45

18. Parcel Select Contract 50

19. Parcel Select Contract 51

20. Parcel Select Contract 52

21. Parcel Select Contract 53

22. Parcel Select & Parcel Return Service Contract 7

23. Parcel Select & Parcel Return Service Contract 9

24. Parcel Select & Parcel Return Service Contract 11

25. Priority Mail Contract 530

26. Priority Mail Contract 543

27. Priority Mail Contract 544

28. Priority Mail Contract 547

29. Priority Mail Contract 551

30. Priority Mail Contract 559

31. Priority Mail Contract 573

32. Priority Mail Contract 589

33. Priority Mail Contract 595

34. Priority Mail Contract 601

35. Priority Mail Contract 605

36. Priority Mail Contract 607

37. Priority Mail Contract 611

38. Priority Mail Contract 614

39. Priority Mail Contract 645

40. Priority Mail Contract 660

41. Priority Mail Contract 692

42. Priority Mail Contract 711

43. Priority Mail Contract 724

44. Priority Mail Contract 725

45. Priority Mail Contract 727

46. Priority Mail Contract 728

47. Priority Mail Contract 734

48. Priority Mail Contract 735

49. Priority Mail Contract 741

50. Priority Mail Contract 743

51. Priority Mail Contract 746

52. Priority Mail Contract 748

53. Priority Mail Contract 752

54. Priority Mail Contract 775

55. Priority Mail Express Contract 94

56. Priority Mail Express & Priority Mail Contract 102

57. Priority Mail Express & Priority Mail Contract 120

58. Priority Mail Express & Priority Mail Contract 134

59. Priority Mail Express International, Priority Mail International & First-Class Package International Service Contract 5

60. Priority Mail Express, Priority Mail & First-Class Package Service Contract 62

61. Priority Mail Express, Priority Mail & First-Class Package Service Contract 73

62. Priority Mail Express, Priority Mail, First-Class Package Service & Parcel Select Contract 112

63. Priority Mail & First-Class Package Service Contract 102

64. Priority Mail & First-Class Package Service Contract 126

65. Priority Mail & First-Class Package Service Contract 128

66. Priority Mail & First-Class Package Service Contract 129

67. Priority Mail & First-Class Package Service Contract 132

68. Priority Mail & First-Class Package Service Contract 139

69. Priority Mail & First-Class Package Service Contract 141

70. Priority Mail & First-Class Package Service Contract 146

71. Priority Mail & First-Class Package Service Contract 148

72. Priority Mail & First-Class Package Service Contract 188

73. Priority Mail & First-Class Package Service Contract 192

74. Priority Mail & First-Class Package Service Contract 209

75. Priority Mail & First-Class Package Service Contract 214

The following product from appendix B to subpart A of part 3040 (Competitive Product List) is being renamed:

1. First-Class Package Service was renamed USPS Ground Advantage.

The above-referenced changes to the Competitive product list are incorporated into appendix B to subpart A of part 3040.

V. Ordering Paragraphs

It is ordered:

1. Part 3040 of title 39, Code of Federal Regulations, is amended as set forth below the signature of this document, effective 45 days after the date of publication of the document in the Federal Register without further action, unless adverse comments are received.

2. The Secretary shall arrange for publication of the document in the Federal Register.

3. Interested persons may submit adverse comments no later than 30 days from the date of the publication of this document in the Federal Register.

4. If adverse comments are received, the Secretary will publish a timely withdrawal of the document in the Federal Register.

By the Commission.
Erica A. Barker,
Secretary.

List of Subjects in 39 CFR Part 3040

Administrative practice and procedure, Postal Service.

For the reasons discussed in the preamble, the Postal Regulatory Commission amends chapter III of title 39 of the Code of Federal Regulations as follows:

PART 3040—PRODUCT LISTS AND THE MAIL CLASSIFICATION SCHEDULE

1. The authority citation for part 3040 continues to read as follows:

Authority: 39 U.S.C. 503; 3622; 3631; 3642; 3682.

2. Revise appendix A to subpart A of part 3040 to read as follows:

Appendix A to Subpart A of Part 3040—Market Dominant Product List

(An asterisk (*) indicates an organizational class or group, not a Postal Service product.)

FIRST-CLASS MAIL*

Single-Piece Letters/Postcards

Presorted Letters/Postcards

Flats

Outbound Single-Piece First-Class Mail International

Inbound Letter Post

USPS MARKETING MAIL (COMMERCIAL AND NONPROFIT)*

High Density and Saturation Letters

High Density and Saturation Flats/Parcels

Carrier Route

Letters

Flats

Parcels

Every Door Direct Mail—Retail

PERIODICALS*

In-County Periodicals

Outside County Periodicals

PACKAGE SERVICES*

Alaska Bypass Service

Bound Printed Matter Flats

Bound Printed Matter Parcels

Media Mail/Library Mail

SPECIAL SERVICES*

Ancillary Services

International Ancillary Services

Address Management Services

Caller Service

Credit Card Authentication

International Reply Coupon Service

International Business Reply Mail Service

Money Orders

Post Office Box Service

Stamp Fulfillment Services

NEGOTIATED SERVICE AGREEMENTS*

Domestic*

International*

Inbound Market Dominant Multi-Service Agreements with Foreign Postal Operators

NONPOSTAL SERVICES*

Alliances with the Private Sector to Defray Cost of Key Postal Functions

Philatelic Sales

MARKET TESTS*

USPS Connect Local Mail

3. Revise appendix B to subpart A of part 3040 to read as follows:

Appendix B to Subpart A of Part 3040—Competitive Product List

(An asterisk (*) indicates an organizational class or group, not a Postal Service product.)

DOMESTIC PRODUCTS*

Priority Mail Express

Priority Mail

Parcel Select

Parcel Return Service

USPS Ground Advantage

INTERNATIONAL PRODUCTS*

Outbound International Expedited Services

Inbound Parcel Post (at UPU rates)

Outbound Priority Mail International

International Priority Airmail (IPA)

International Surface Air Lift (ISAL)

International Direct Sacks-M-Bags

Outbound Single-Piece First-Class Package International Service

Inbound Letter Post Small Packets and Bulky Letters

NEGOTIATED SERVICE AGREEMENTS*

Domestic*

Priority Mail Express Contract 81

Priority Mail Express Contract 83

Priority Mail Express Contract 87

Priority Mail Express Contract 88

Priority Mail Express Contract 92

Priority Mail Express Contract 95

Priority Mail Express Contract 96

Priority Mail Express Contract 97

Priority Mail Express Contract 98

Priority Mail Express Contract 99

Parcel Return Service Contract 17

Parcel Return Service Contract 18

Parcel Return Service Contract 19

Priority Mail Contract 80

Priority Mail Contract 153

Priority Mail Contract 360

Priority Mail Contract 596

Priority Mail Contract 604

Priority Mail Contract 609

Priority Mail Contract 615

Priority Mail Contract 618

Priority Mail Contract 628

Priority Mail Contract 631

Priority Mail Contract 640

Priority Mail Contract 642

Priority Mail Contract 647

Priority Mail Contract 655

Priority Mail Contract 657

Priority Mail Contract 658

Priority Mail Contract 663

Priority Mail Contract 665

Priority Mail Contract 666

Priority Mail Contract 669

Priority Mail Contract 671

Priority Mail Contract 672

Priority Mail Contract 682

Priority Mail Contract 685

Priority Mail Contract 686

Priority Mail Contract 687

Priority Mail Contract 690

Priority Mail Contract 693

Priority Mail Contract 694

Priority Mail Contract 695

Priority Mail Contract 699

Priority Mail Contract 700

Priority Mail Contract 701

Priority Mail Contract 704

Priority Mail Contract 705

Priority Mail Contract 707

Priority Mail Contract 708

Priority Mail Contract 709

Priority Mail Contract 712

Priority Mail Contract 714

Priority Mail Contract 715

Priority Mail Contract 720

Priority Mail Contract 721

Priority Mail Contract 722

Priority Mail Contract 730

Priority Mail Contract 733

Priority Mail Contract 736

Priority Mail Contract 737

Priority Mail Contract 738

Priority Mail Contract 739

Priority Mail Contract 740

Priority Mail Contract 742

Priority Mail Contract 744

Priority Mail Contract 745

Priority Mail Contract 747

Priority Mail Contract 749

Priority Mail Contract 750

Priority Mail Contract 751

Priority Mail Contract 753

Priority Mail Contract 754

Priority Mail Contract 755

Priority Mail Contract 756

Priority Mail Contract 757

Priority Mail Contract 758

Priority Mail Contract 759

Priority Mail Contract 760

Priority Mail Contract 761

Priority Mail Contract 762

Priority Mail Contract 763

Priority Mail Contract 764

Priority Mail Contract 765

Priority Mail Contract 766

Priority Mail Contract 767

Priority Mail Contract 768

Priority Mail Contract 769

Priority Mail Contract 770

Priority Mail Contract 771

Priority Mail Contract 772

Priority Mail Contract 773

Priority Mail Contract 774

Priority Mail Contract 776

Priority Mail Contract 777

Priority Mail Contract 778

Priority Mail Contract 779

Priority Mail Contract 780

Priority Mail Express & Priority Mail Contract 99

Priority Mail Express & Priority Mail Contract 114

Priority Mail Express & Priority Mail Contract 116

Priority Mail Express & Priority Mail Contract 118

Priority Mail Express & Priority Mail Contract 122

Priority Mail Express & Priority Mail Contract 123

Priority Mail Express & Priority Mail Contract 130

Priority Mail Express & Priority Mail Contract 131

Priority Mail Express & Priority Mail Contract 133

Priority Mail Express & Priority Mail Contract 135

Priority Mail Express & Priority Mail Contract 136

Priority Mail Express & Priority Mail Contract 137

Parcel Select & Parcel Return Service Contract 10

Parcel Select & Parcel Return Service Contract 14

Parcel Select Contract 34

Parcel Select Contract 44

Parcel Select Contract 48

Parcel Select Contract 49

Parcel Select Contract 54

Parcel Select Contract 55

Parcel Select Contract 56

Parcel Select Contract 57

Parcel Select Contract 58

Parcel Select Contract 59

Priority Mail—Non-Published Rates 1

Priority Mail—Non-Published Rates 2

First-Class Package Service Contract 87

First-Class Package Service Contract 109

First-Class Package Service Contract 110

First-Class Package Service Contract 112

First-Class Package Service Contract 114

First-Class Package Service Contract 116

First-Class Package Service Contract 117

First-Class Package Service Contract 118

First-Class Package Service Contract 120

First-Class Package Service Contract 121

Priority Mail Express, Priority Mail & First-Class Package Service Contract 66

Priority Mail Express, Priority Mail & First-Class Package Service Contract 67

Priority Mail Express, Priority Mail & First-Class Package Service Contract 71

Priority Mail Express, Priority Mail & First-Class Package Service Contract 74

Priority Mail Express, Priority Mail & First-Class Package Service Contract 75

Priority Mail Express, Priority Mail & First-Class Package Service Contract 77

Priority Mail Express, Priority Mail & First-Class Package Service Contract 78

Priority Mail Express, Priority Mail & First-Class Package Service Contract 79

Priority Mail Express, Priority Mail & First-Class Package Service Contract 80

Priority Mail & First-Class Package Service Contract 26

Priority Mail & First-Class Package Service Contract 79

Priority Mail & First-Class Package Service Contract 121

Priority Mail & First-Class Package Service Contract 137

Priority Mail & First-Class Package Service Contract 143

Priority Mail & First-Class Package Service Contract 144

Priority Mail & First-Class Package Service Contract 153

Priority Mail & First-Class Package Service Contract 154

Priority Mail & First-Class Package Service Contract 155

Priority Mail & First-Class Package Service Contract 163

Priority Mail & First-Class Package Service Contract 166

Priority Mail & First-Class Package Service Contract 169

Priority Mail & First-Class Package Service Contract 172

Priority Mail & First-Class Package Service Contract 175

Priority Mail & First-Class Package Service Contract 177

Priority Mail & First-Class Package Service Contract 183

Priority Mail & First-Class Package Service Contract 184

Priority Mail & First-Class Package Service Contract 186

Priority Mail & First-Class Package Service Contract 189

Priority Mail & First-Class Package Service Contract 190

Priority Mail & First-Class Package Service Contract 191

Priority Mail & First-Class Package Service Contract 193

Priority Mail & First-Class Package Service Contract 195

Priority Mail & First-Class Package Service Contract 197

Priority Mail & First-Class Package Service Contract 198

Priority Mail & First-Class Package Service Contract 199

Priority Mail & First-Class Package Service Contract 200

Priority Mail & First-Class Package Service Contract 202

Priority Mail & First-Class Package Service Contract 203

Priority Mail & First-Class Package Service Contract 204

Priority Mail & First-Class Package Service Contract 205

Priority Mail & First-Class Package Service Contract 206

Priority Mail & First-Class Package Service Contract 208

Priority Mail & First-Class Package Service Contract 210

Priority Mail & First-Class Package Service Contract 213

Priority Mail & First-Class Package Service Contract 215

Priority Mail & First-Class Package Service Contract 216

Priority Mail & First-Class Package Service Contract 217

Priority Mail & First-Class Package Service Contract 218

Priority Mail & First-Class Package Service Contract 219

Priority Mail & First-Class Package Service Contract 220

Priority Mail & First-Class Package Service Contract 221

Priority Mail & First-Class Package Service Contract 222

Priority Mail & First-Class Package Service Contract 223

Priority Mail & First-Class Package Service Contract 224

Priority Mail & First-Class Package Service Contract 225

Priority Mail & First-Class Package Service Contract 226

Priority Mail & First-Class Package Service Contract 227

Priority Mail & First-Class Package Service Contract 228

Priority Mail & First-Class Package Service Contract 229

Priority Mail & First-Class Package Service Contract 230

Priority Mail & Parcel Select Contract 4

Priority Mail & Parcel Select Contract 5

Priority Mail & Parcel Select Contract 6

Priority Mail & Parcel Select Contract 7

Priority Mail & Parcel Select Contract 8

Priority Mail & Parcel Select Contract 9

Priority Mail Express, Priority Mail, First-Class Package Service & Parcel Select Contract 6

Priority Mail Express, Priority Mail, First-Class Package Service & Parcel Select Contract 8

Priority Mail Express, Priority Mail, First-Class Package Service & Parcel Select Contract 9

Priority Mail Express, Priority Mail, First-Class Package Service & Parcel Select Contract 11

Priority Mail Express, Priority Mail, First-Class Package Service & Parcel Select Contract 12

Priority Mail Express, Priority Mail, First-Class Package Service & Parcel Select Contract 13

Priority Mail Express, Priority Mail, First-Class Package Service & Parcel Select Contract 14

Priority Mail Express, Priority Mail, First-Class Package Service & Parcel Select Contract 15

Priority Mail Express, Priority Mail, First-Class Package Service & Parcel Select Contract 16

Priority Mail Express, Priority Mail, First-Class Package Service & Parcel Select Contract 17

Priority Mail Express, Priority Mail, First-Class Package Service & Parcel Select Contract 18

Priority Mail Express, Priority Mail, First-Class Package Service & Parcel Select Contract 19

Priority Mail Express, Priority Mail, First-Class Package Service & Parcel Select Contract 20

Priority Mail Express, Priority Mail, First-Class Package Service & Parcel Select Contract 21

Priority Mail Express, Priority Mail, First-Class Package Service & Parcel Select Contract 22

Priority Mail Express, Priority Mail, First-Class Package Service & Parcel Select Contract 23

Priority Mail Express, Priority Mail, First-Class Package Service & Parcel Select Contract 24

Priority Mail Express, Priority Mail, First-Class Package Service & Parcel Select Contract 25

Priority Mail Express, Priority Mail, First-Class Package Service & Parcel Select Contract 26

Priority Mail Express, Priority Mail, First-Class Package Service & Parcel Select Contract 27

Priority Mail Express, Priority Mail, First-Class Package Service & Parcel Select Contract 28

Priority Mail Express, Priority Mail, First-Class Package Service & Parcel Select Contract 29

Priority Mail Express, Priority Mail, First-Class Package Service & Parcel Select Contract 30

Priority Mail Express, Priority Mail, First-Class Package Service & Parcel Select Contract 31

Priority Mail Express, Priority Mail, First-Class Package Service & Parcel Select Contract 32

Priority Mail Express, Priority Mail, First-Class Package Service & Parcel Select Contract 33

Priority Mail Express, Priority Mail, First-Class Package Service & Parcel Select Contract 34

Priority Mail Express, Priority Mail, First-Class Package Service & Parcel Select Contract 35

Priority Mail Express, Priority Mail, First-Class Package Service & Parcel Select Contract 36

Priority Mail Express, Priority Mail, First-Class Package Service & Parcel Select Contract 37

Priority Mail Express, Priority Mail, First-Class Package Service & Parcel Select Contract 38

Priority Mail Express, Priority Mail, First-Class Package Service & Parcel Select Contract 39

Priority Mail Express, Priority Mail, First-Class Package Service & Parcel Select Contract 40

Priority Mail Express, Priority Mail, First-Class Package Service & Parcel Select Contract 41

Priority Mail Express, Priority Mail, First-Class Package Service & Parcel Select Contract 42

Priority Mail Express, Priority Mail, First-Class Package Service & Parcel Select Contract 43

Priority Mail Express, Priority Mail, First-Class Package Service & Parcel Select Contract 44

Priority Mail Express, Priority Mail, First-Class Package Service & Parcel Select Contract 45

Priority Mail Express, Priority Mail, First-Class Package Service & Parcel Select Contract 46

Priority Mail Express, Priority Mail, First-Class Package Service & Parcel Select Contract 47

Priority Mail Express, Priority Mail, First-Class Package Service & Parcel Select Contract 48

Priority Mail Express, Priority Mail, First-Class Package Service & Parcel Select Contract 49

Priority Mail Express, Priority Mail, First-Class Package Service & Parcel Select Contract 50

Priority Mail Express, Priority Mail, First-Class Package Service & Parcel Select Contract 51

Priority Mail Express, Priority Mail, First-Class Package Service & Parcel Select Contract 52

Priority Mail Express, Priority Mail, First-Class Package Service & Parcel Select Contract 53

Priority Mail Express, Priority Mail, First-Class Package Service & Parcel Select Contract 54

Priority Mail Express, Priority Mail, First-Class Package Service & Parcel Select Contract 55

Priority Mail Express, Priority Mail, First-Class Package Service & Parcel Select Contract 56

Priority Mail Express, Priority Mail, First-Class Package Service & Parcel Select Contract 57

Priority Mail Express, Priority Mail, First-Class Package Service & Parcel Select Contract 58

Priority Mail Express, Priority Mail, First-Class Package Service & Parcel Select Contract 59

Priority Mail Express, Priority Mail, First-Class Package Service & Parcel Select Contract 60

Priority Mail Express, Priority Mail, First-Class Package Service & Parcel Select Contract 61

Priority Mail Express, Priority Mail, First-Class Package Service & Parcel Select Contract 62

Priority Mail Express, Priority Mail, First-Class Package Service & Parcel Select Contract 63

Priority Mail Express, Priority Mail, First-Class Package Service & Parcel Select Contract 64

Priority Mail Express, Priority Mail, First-Class Package Service & Parcel Select Contract 66

Priority Mail Express, Priority Mail, First-Class Package Service & Parcel Select Contract 67

Priority Mail Express, Priority Mail, First-Class Package Service & Parcel Select Contract 68

Priority Mail Express, Priority Mail, First-Class Package Service & Parcel Select Contract 69

Priority Mail Express, Priority Mail, First-Class Package Service & Parcel Select Contract 70

Priority Mail Express, Priority Mail, First-Class Package Service & Parcel Select Contract 71

Priority Mail Express, Priority Mail, First-Class Package Service & Parcel Select Contract 72

Priority Mail Express, Priority Mail, First-Class Package Service & Parcel Select Contract 73

Priority Mail Express, Priority Mail, First-Class Package Service & Parcel Select Contract 74

Priority Mail Express, Priority Mail, First-Class Package Service & Parcel Select Contract 75

Priority Mail Express, Priority Mail, First-Class Package Service & Parcel Select Contract 76

Priority Mail Express, Priority Mail, First-Class Package Service & Parcel Select Contract 77

Priority Mail Express, Priority Mail, First-Class Package Service & Parcel Select Contract 78

Priority Mail Express, Priority Mail, First-Class Package Service & Parcel Select Contract 79

Priority Mail Express, Priority Mail, First-Class Package Service & Parcel Select Contract 80

Priority Mail Express, Priority Mail, First-Class Package Service & Parcel Select Contract 81

Priority Mail Express, Priority Mail, First-Class Package Service & Parcel Select Contract 82

Priority Mail Express, Priority Mail, First-Class Package Service & Parcel Select Contract 83

Priority Mail Express, Priority Mail, First-Class Package Service & Parcel Select Contract 84

Priority Mail Express, Priority Mail, First-Class Package Service & Parcel Select Contract 85

Priority Mail Express, Priority Mail, First-Class Package Service & Parcel Select Contract 86

Priority Mail Express, Priority Mail, First-Class Package Service & Parcel Select Contract 87

Priority Mail Express, Priority Mail, First-Class Package Service & Parcel Select Contract 88

Priority Mail Express, Priority Mail, First-Class Package Service & Parcel Select Contract 89

Priority Mail Express, Priority Mail, First-Class Package Service & Parcel Select Contract 90

Priority Mail Express, Priority Mail, First-Class Package Service & Parcel Select Contract 91

Priority Mail Express, Priority Mail, First-Class Package Service & Parcel Select Contract 92

Priority Mail Express, Priority Mail, First-Class Package Service & Parcel Select Contract 93

Priority Mail Express, Priority Mail, First-Class Package Service & Parcel Select Contract 94

Priority Mail Express, Priority Mail, First-Class Package Service & Parcel Select Contract 95

Priority Mail Express, Priority Mail, First-Class Package Service & Parcel Select Contract 96

Priority Mail Express, Priority Mail, First-Class Package Service & Parcel Select Contract 97

Priority Mail Express, Priority Mail, First-Class Package Service & Parcel Select Contract 98

Priority Mail Express, Priority Mail, First-Class Package Service & Parcel Select Contract 99

Priority Mail Express, Priority Mail, First-Class Package Service & Parcel Select Contract 100

Priority Mail Express, Priority Mail, First-Class Package Service & Parcel Select Contract 101

Priority Mail Express, Priority Mail, First-Class Package Service & Parcel Select Contract 102

Priority Mail Express, Priority Mail, First-Class Package Service & Parcel Select Contract 103

Priority Mail Express, Priority Mail, First-Class Package Service & Parcel Select Contract 104

Priority Mail Express, Priority Mail, First-Class Package Service & Parcel Select Contract 105

Priority Mail Express, Priority Mail, First-Class Package Service & Parcel Select Contract 106

Priority Mail Express, Priority Mail, First-Class Package Service & Parcel Select Contract 107

Priority Mail Express, Priority Mail, First-Class Package Service & Parcel Select Contract 108

Priority Mail Express, Priority Mail, First-Class Package Service & Parcel Select Contract 109

Priority Mail Express, Priority Mail, First-Class Package Service & Parcel Select Contract 110

Priority Mail Express, Priority Mail, First-Class Package Service & Parcel Select Contract 111

Priority Mail Express, Priority Mail, First-Class Package Service & Parcel Select Contract 113

Priority Mail Express, Priority Mail, First-Class Package Service & Parcel Select Contract 114

Priority Mail Express, Priority Mail, First-Class Package Service & Parcel Select Contract 115

Priority Mail Express, Priority Mail, First-Class Package Service & Parcel Select Contract 116

Priority Mail Express, Priority Mail, First-Class Package Service & Parcel Select Contract 117

Priority Mail Express, Priority Mail, First-Class Package Service & Parcel Select Contract 118

Priority Mail Express, Priority Mail, First-Class Package Service & Parcel Select Contract 119

Priority Mail Express, Priority Mail, First-Class Package Service & Parcel Select Contract 120

Priority Mail Express, Priority Mail, First-Class Package Service & Parcel Select Contract 121

Priority Mail, First-Class Package Service & Parcel Select Contract 3

Priority Mail, First-Class Package Service & Parcel Select Contract 4

Priority Mail, First-Class Package Service & Parcel Select Contract 5

Priority Mail, First-Class Package Service & Parcel Select Contract 6

Priority Mail, First-Class Package Service & Parcel Select Contract 7

Priority Mail, First-Class Package Service & Parcel Select Contract 8

Priority Mail, First-Class Package Service & Parcel Select Contract 9

Priority Mail, First-Class Package Service & Parcel Select Contract 12

Priority Mail, First-Class Package Service & Parcel Select Contract 13

Priority Mail, First-Class Package Service & Parcel Select Contract 15

Priority Mail, First-Class Package Service & Parcel Select Contract 16

Priority Mail, First-Class Package Service & Parcel Select Contract 17

Priority Mail, First-Class Package Service & Parcel Select Contract 18

Priority Mail, First-Class Package Service & Parcel Select Contract 19

Priority Mail, First-Class Package Service & Parcel Select Contract 20

Priority Mail, First-Class Package Service & Parcel Select Contract 22

Priority Mail, First-Class Package Service & Parcel Select Contract 26

Priority Mail, First-Class Package Service & Parcel Select Contract 28

Priority Mail, First-Class Package Service & Parcel Select Contract 29

Priority Mail Express, Priority Mail & Parcel Select Contract 1

Priority Mail, Parcel Select & Parcel Return Service Contract 1

First-Class Package Service & Parcel Select Contract 1

First-Class Package Service & Parcel Select Contract 2

Priority Mail & USPS Ground Advantage Contract 1

Priority Mail & USPS Ground Advantage Contract 2

Priority Mail & USPS Ground Advantage Contract 3

Outbound International*

Global Expedited Package Services (GEPS) Contracts

GEPS 3

GEPS 5

GEPS 6

GEPS 7

GEPS 8

GEPS 9

GEPS 10

Global Bulk Economy (GBE) Contracts

Global Plus Contracts

Global Plus 1C

Global Plus 1D

Global Plus 1E

Global Plus 2C

Global Plus 3

Global Plus 4

Global Plus 5

Global Plus 6

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Global Expedited Package Services (GEPS)—Non-Published Rates 10

Global Expedited Package Services (GEPS)—Non-Published Rates 11

Global Expedited Package Services (GEPS)—Non-Published Rates 12

Global Expedited Package Services (GEPS)—Non-Published Rates 13

Global Expedited Package Services (GEPS)—Non-Published Rates 14

Global Expedited Package Services (GEPS)—Non-Published Rates 15

Outbound Competitive International Merchandise Return Service Agreement with Royal Mail Group, Ltd.

Competitive International Merchandise Return Service Agreements with Foreign Postal Operators

Competitive International Merchandise Return Service Agreements with Foreign Postal Operators 1

Competitive International Merchandise Return Service Agreements with Foreign Postal Operators 2

Alternative Delivery Provider (ADP) Contracts

ADP 1

Alternative Delivery Provider Reseller (ADPR) Contracts

ADPR 1

Priority Mail Express International, Priority Mail International & First-Class Package International Service Contracts

Priority Mail Express International, Priority Mail International & First-Class Package International Service Contract 4

Priority Mail Express International, Priority Mail International & First-Class Package International Service Contract 6

Priority Mail Express International, Priority Mail International & First-Class Package International Service Contract 7

Priority Mail Express International, Priority Mail International & First-Class Package International Service Contract 8

Priority Mail Express International, Priority Mail International & First-Class Package International Service Contract 9

Priority Mail Express International, Priority Mail International & First-Class Package International Service Contract 10

Priority Mail Express International, Priority Mail International & First-Class Package International Service Contract 11

Priority Mail Express International, Priority Mail International & First-Class Package International Service Contract 12

Priority Mail Express International, Priority Mail International & First-Class Package International Service Contract 13

Priority Mail Express International, Priority Mail International & First-Class Package International Service Contract 14

Priority Mail Express International, Priority Mail International & First-Class Package International Service Contract 15

Priority Mail Express International, Priority Mail International & First-Class Package International Service Contract 16

Priority Mail Express International, Priority Mail International & First-Class Package International Service Contract 17

Priority Mail Express International, Priority Mail International & First-Class Package International Service Contract 18

Priority Mail Express International, Priority Mail International & First-Class Package International Service Contract 19

Priority Mail Express International, Priority Mail International & First-Class Package International Service Contract 20

Priority Mail Express International, Priority Mail International, First-Class Package International Service & Commercial ePacket Contracts

Priority Mail Express International, Priority Mail International, First-Class Package International Service & Commercial ePacket Contract 2

Priority Mail Express International, Priority Mail International, First-Class Package International Service & Commercial ePacket Contract 8

Priority Mail Express International, Priority Mail International, First-Class Package International Service & Commercial ePacket Contract 12

Priority Mail Express International, Priority Mail International, First-Class Package International Service & Commercial ePacket Contract 13

Priority Mail Express International, Priority Mail International & Commercial ePacket Contracts

International Priority Airmail, Commercial ePacket, Priority Mail Express International, Priority Mail International & First-Class Package International Service Contracts

International Priority Airmail, Commercial ePacket, Priority Mail Express International, Priority Mail International & First-Class Package International Service Contract 1

International Priority Airmail, Commercial ePacket, Priority Mail Express International, Priority Mail International & First-Class Package International Service Contract 2

International Priority Airmail, Commercial ePacket, Priority Mail Express International, Priority Mail International & First-Class Package International Service Contract 4

International Priority Airmail, Commercial ePacket, Priority Mail Express International, Priority Mail International & First-Class Package International Service Contract 5

International Priority Airmail, Commercial ePacket, Priority Mail Express International, Priority Mail International & First-Class Package International Service Contract 6

International Priority Airmail, Commercial ePacket, Priority Mail Express International, Priority Mail International & First-Class Package International Service Contract 9

International Priority Airmail, Commercial ePacket, Priority Mail Express International, Priority Mail International & First-Class Package International Service Contract 11

International Priority Airmail, Commercial ePacket, Priority Mail Express International, Priority Mail International & First-Class Package International Service Contract 12

International Priority Airmail, Commercial ePacket, Priority Mail Express International, Priority Mail International & First-Class Package International Service Contract 13

International Priority Airmail, Commercial ePacket, Priority Mail Express International, Priority Mail International & First-Class Package International Service Contract 14

International Priority Airmail, Commercial ePacket, Priority Mail Express International, Priority Mail International & First-Class Package International Service Contract 15

International Priority Airmail, Commercial ePacket, Priority Mail Express International, Priority Mail International & First-Class Package International Service with Reseller Contracts

International Priority Airmail, Commercial ePacket, Priority Mail Express International, Priority Mail International & First-Class Package International Service with Reseller Contract 2

International Priority Airmail, Commercial ePacket, Priority Mail Express International, Priority Mail International & First-Class Package International Service with Reseller Contract 3

International Priority Airmail, Commercial ePacket, Priority Mail Express International, Priority Mail International & First-Class Package International Service with Reseller Contract 4

International Priority Airmail, Commercial ePacket, Priority Mail Express International, Priority Mail International & First-Class Package International Service with Reseller Contract 5

International Priority Airmail, Commercial ePacket, Priority Mail Express International, Priority Mail International & First-Class Package International Service with Reseller Contract 6

International Priority Airmail, Commercial ePacket, Priority Mail Express International, Priority Mail International & First-Class Package International Service with Reseller Contract 7

International Priority Airmail, Commercial ePacket, Priority Mail Express International, Priority Mail International & First-Class Package International Service with Reseller Contract 8

International Priority Airmail Contracts

International Priority Airmail, International Surface Air Lift, Commercial ePacket, Priority Mail Express International, Priority Mail International & First-Class Package International Service Contracts

International Priority Airmail, International Surface Air Lift, Commercial ePacket, Priority Mail Express International, Priority Mail International & First-Class Package International Service Contract 1

International Priority Airmail, International Surface Air Lift, Commercial ePacket, Priority Mail Express International, Priority Mail International & First-Class Package International Service with Reseller Contracts

Inbound International*

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Inbound Competitive Multi-Service Agreements with Foreign Postal Operators

Inbound Competitive Multi-Service Agreements with Foreign Postal

Operators 1

SPECIAL SERVICES*

Address Enhancement Services

Greeting Cards, Gift Cards, and Stationery

International Ancillary Services

International Money Transfer Service—Outbound

International Money Transfer Service—Inbound

Premium Forwarding Service

Shipping and Mailing Supplies

Post Office Box Service

Competitive Ancillary Services

NONPOSTAL SERVICES*

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

MARKET TESTS*

[FR Doc. 2023-20143 Filed 9-15-23; 8:45 am]

BILLING CODE 7710-FW-P